DEPARTMENT OF STATE

[Delegation of Authority No. 349]

Delegation to the Under Secretary for Arms Control and International Security of Authority To Concur With the Secretary of Defense Authorization of Activities of the Office of Security Cooperation in Iraq

By virtue of the authority vested in the Secretary of State, including Section 1211 of the National Defense Authorization Act for Fiscal Year 2013 (Pub. L. 112-239) (NDAA), and Section 1 of the State Department Basic Authorities Act, as amended (22 U.S.C. 2651a), and delegated to me by the Secretary of State in Delegation of Authority 245-1, dated February 13, 2009, I hereby delegate to the Under Secretary for Arms Control and International Security, to the extent authorized by law, the authority to concur with a Secretary of Defense authorization that is made pursuant to Subsection 1211(c) of the NDAA.

Notwithstanding this delegation of authority, the Secretary, the Deputy Secretary, or the Deputy Secretary for Management and Resources may exercise any function or authority delegated by this Delegation. Any reference in this delegation of authority to any statute or delegation of authority shall be deemed to be a reference to such statute or delegation of authority as amended from time to time.

The Under Secretary for Arms Control and International Security may, to the extent consistent with law, redelegate such functions and authorities and authorize their successive redelegation.

This delegation of authority shall be published in the Federal Register.

Dated: February 22, 2013 .
William J. Burns,
Deputy Secretary of State.

[FR Doc. 2013-07073 Filed 3-26-13; 8:45 am]

BILLING CODE 4710-10-P